DEPARTMENT OF LABOR

Employment and Training Administration

[TA-W-41,585]

Kennametal Inc., Greenfield Tap Plant, Greefield, MA; Notice of Revised Determination on Reconsideration

By letter of October 21, 2002, the company requested administrative reconsideration regarding the Department's Negative Determination Regarding Eligibility to Apply for Worker Adjustment Assistance, applicable to the workers of the subject firm.

The initial investigation resulted in a negative determination issued on October 10, 2002, based on the finding that imports of high speed steel taps did not contribute importantly to worker separations at the Greenfield plant. The denial notice was published in the Federal Register on November 5, 2002 (67 FR 67421).

To support the request for reconsideration, the petitioner supplied information indicating that workers at an affiliated sister location, Kennametal Inc., Greenfield Products Group, Lyndonville, Vermont were certified for TAA under TA-W-41,616. The petitioner further indicated that the subject plant produced the same products (same size high speed steel taps) as those produced at the Lyndonville plant.

On review of the initial investigation, and further contact with the company, it has become apparent that the workers of the subject plant and the workers at the Lyndonville, Vermont facility produced products like or directly competitive and for the same customer base. The workers of Kennametal Inc., Greenfield Industrial Products Group, Lyndonville, Vermont (TA-W-41,616) were certified on September 4, 2002. That TAA certification was based on a survey of customer(s) increasing their imports of products like or directly competitive with what the subject plant produced.

Conclusion

After careful review of the additional facts obtained on reconsideration, I conclude that increased imports of articles like or directly competitive with those produced at Kennametal Inc., Greenfield Tap Plant, Greenfield, Massachusetts contributed importantly to the declines in sales or production and to the total or partial separation of workers at the subject firm. In accordance with the provisions of the Act, I make the following certification:

“All workers of Kennametal Inc., Greenfield Tap Plant, Greenfield, Massachusetts, who became totally or partially separated from employment on or after May 14, 2001 through two years from the date of this certification, are eligible to apply for adjustment assistance under Section 223 of the Trade Act of 1974.”

Signed in Washington, DC, this 10th day of February 2003.
Edward A. Tomchick,
Director, Division of Trade Adjustment Assistance.

[FR Doc. 03-6406 Filed 3-17-03; 8:45 am]

BILLING CODE 4510-30-P